ENVIRONMENTAL PROTECTION AGENCY

40 CFR Part 82

[FRL-8174-9]

Protection of Stratospheric Ozone: Notice of Data Availability; New Information Concerning SNAP Program Proposal on Ozone Depleting Substitutes in Foam Blowing

AGENCY: Environmental Protection Agency (EPA).

ACTION: Notice of data availability and request for comment.

SUMMARY: The Environmental Protection Agency (EPA) is making available to the public new information related to a November 4, 2005 proposed rule under the Significant New Alternatives Policy (SNAP) program under section 612 of the Clean Air Act (70 FR 67120). The SNAP program reviews alternatives to Class I and Class II ozone depleting substances and approves the use of alternatives which reduce the overall risk to public health and the environment. The November 4, 2005 proposed rule proposed to list two hydrochlorofluorocarbons (HCFCs)—HCFC-22 and HCFC-142b—as unacceptable substitutes in foam blowing applications, but proposed to grandfather existing users until January 1, 2010. In response to the November 2005 proposal, EPA received public comments, which have been made available through the Air Docket (see General Information section below for docket contact information). The Agency has also received additional information regarding the technical viability of non-ozone depleting alternatives in blowing agents available for polyurethane “pour foam” and the extruded polystyrene foam industries. Today, the Agency is requesting comment on these materials. We plan to consider this information, and any comment received during the comment period, in determining what future action to take on our November 4, 2005 proposal regarding the use of HCFC-22 and HCFC-142b in foam blowing applications. This information may impact the outcome of the final rule, such as adjusting the January 1, 2010 grandfathering date or clarifying the definition of “existing use.”

DATES: We will accept comments on the new data through June 26, 2006.

ADDRESSES: Comments may also be submitted electronically, by facsimile, or through hand delivery/courier. Follow the detailed instructions as provided at the beginning of the supplementary information section.

FOR FURTHER INFORMATION CONTACT: For further information about this notice, contact Seema Schappelle by telephone at (202) 343-9548, or by e-mail at schappelle.seema@epa.gov. Overnight or courier deliveries should be sent to the office location at 1310 L Street, NW., Washington, DC 20005. Notices and rulemakings under the SNAP program are available on the internet at http://www.epa.gov/ozone/snap/regs.

SUPPLEMENTARY INFORMATION:

Table of Contents

I. General Information

A. How Can I Get Copies of Related Information ?

B. How and to Whom Do I Submit Comments?

C. How Should I Submit CBI to the Agency?

II. What is today's action?

III. What information is EPA making available for review and comment?

IV. Where can I get the data being made available for comment?

V. Why is EPA making this data available?

VI. What is EPA not taking comment on?

VII. What supporting documentation do I need to include in my comments?

I. General Information

A. How Can I Get Copies of Related Information?

1. Docket

EPA has established an official public docket for this action under Docket ID No. OAR-2004-0507 (continuation of OAR-2003-0228 and Docket A-2000-18). The official public docket consists of the documents specifically referenced in this action, any public comments received, and other information related to this action. Hard copies of documents from prior to the public comment period are found under Docket ID No. A-2000-18. Although a part of the official docket, the public docket does not include Confidential Business Information (CBI) or other information whose disclosure is restricted by statute. The official public docket is the collection of materials that is available for public viewing at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Reading Room is (202) 566-1742, and the telephone number for the Air and Radiation Docket is (202) 566-1742.

2. Electronic Access

An electronic version of the public docket is available through EPA's electronic public docket and comment system, EPA Dockets. You may use EPA Dockets at http://www.regulations.gov to submit or view public comments, access the index listing of the contents of the official public docket, and to access those documents in the public docket that are available electronically. Once in the system, key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section I.B.1. above.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

B. How and To Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” EPA is not required to consider these late comments. If you wish to submit CBI or information that is otherwise protected by statute, please follow the instructions in section I.D. Do not use EPA Dockets or e-mail to submit CBI or information protected by statute.

1. Electronically

If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. Go directly to EPA Dockets at http://www.regulations.gov, and follow the online instructions for submitting comments. To access EPA's electronic public docket from the EPA Internet Home Page, select “Information Sources,” “Dockets,” and “EPA Dockets.” Once in the system, key in Docket ID No. OAR-2004-0507. The system is an “anonymous access” system, which means EPA will not know your identity, e-mail address, or other contact information unless you provide it in the body of your comment.

Comments may be sent by electronic mail (e-mail) to A-And-R-Docket@epa.gov, Attention Docket ID No. OAR-2004-0507. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

You may submit comments on a disk or CD ROM that you mail to the mailing address identified in section I.B.1. These electronic submissions will be accepted in Microsoft Word, WordPerfect or ASCII file format. Avoid the use of special characters and any form of encryption.

2. By Mail

Send two copies of your comments to: Air and Radiation Docket, Environmental Protection Agency, Mailcode: 6102T, 1200 Pennsylvania Ave., NW, Washington, DC, 20460, Attention Docket ID No. OAR-2004-0507.

3. By Hand Delivery or Courier

Deliver your comments to: EPA Docket Center, (EPA/DC) EPA West, Room B102, 1301 Constitution Ave., NW, Washington, DC., Attention Docket ID No. OAR-2004-0507. Such deliveries are only accepted during the Docket's normal hours of operation as identified in section I.B.1.

4. By Facsimile

Fax your comments to: 202-566-1741, Attention Docket ID. No. OAR-2004-0507.

C. How Should I Submit CBI to the Agency?

Do not submit information that you consider to be CBI electronically through EPA's electronic public docket or by e-mail. Send or deliver information identified as CBI only to the following address: Seema Schappelle, U.S. EPA, 8th floor, 1310 L Street NW, Washington DC 20005 via overnight delivery service, Attention Docket ID No. OAR-2004-0507. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified in the FOR FURTHER INFORMATION CONTACT section.

II. What is today's action?

Today, we are requesting comment on additional information developed after the comment period on the appropriate period for grandfathering existing users in certain end uses for foam blowing applications. In the November 4, 2005 proposed rule, EPA proposed two actions regarding the acceptability of HCFC-22 and HCFC-142b in the foam sector. First, EPA proposed to find HCFC-22 and HCFC-142b as unacceptable foam blowing agent substitutes for HCFC-141b in commercial refrigeration, sandwich panels, and slabstock and “other” foam, but proposed to grandfather existing users until January 1, 2010. Second, EPA proposed to find HCFC-22 and HCFC-142b unacceptable as substitutes for CFCs in all foam end-uses, but proposed to grandfather existing users until January 1, 2010.

Based on the public comments received, it became apparent that several manufacturers had made significant progress in adopting non-ozone depleting substances (ODS) alternatives for specific foam applications. Beginning with a previous proposal on the use of HCFC-22 and HCFC-142b in foam manufacturing on July 11, 2000 (65 FR 42653), the Agency has continually monitored the progress of the industry's transition to alternatives. In the July 22, 2002 final SNAP rule to that proposal (67 FR 47703), EPA reiterated that it would monitor progress on the transition and make adjustments as needed: “EPA is continuing to review the commercial refrigeration, sandwich panels, and slabstock and other foams end-uses to determine the progress of non-ozone depleting alternatives. As non-ozone depleting alternatives become more widely available, the Agency will reevaluate the acceptability of HCFCs in these end uses. Therefore, foam manufacturers within these applications that are using HCFCs should begin using non-ozone depleting alternatives as soon as they are available in anticipation of future EPA action restricting the use of HCFCs.”

In keeping with that policy, especially in light of public comments on the November 2005 proposal, EPA asked Stratus Consulting, Inc. to evaluate the availability and technical viability of alternatives in the polyurethane “pour foam” and the extruded polystyrene foam industries. We are making the evaluation from Stratus available for comment and plan to consider this information and any comment received during the comment period in determining what the appropriate grandfathering period should be for existing use of HCFC-22 and HCFC-142b in foam blowing applications.

III. What information is EPA making available for review and comment?

EPA is making available two reports by Stratus Consulting, Inc. on the availability and technical viability of alternatives in the polyurethane “pour foam” and the extruded polystyrene foam industries. The information for these assessments was collected directly from industry representatives through meetings and phone conversations. The conclusions (and in the case of pour foam, recommendations) provided in these two reports are provided below.

1. Polyurethane “Pour Foam”

a. Conclusions

i. Non-ODS alternatives are available, currently being formulated by systems houses, and technically viable across all end uses.

ii. No technical performance hurdles to using non-ODS alternatives were identified that cannot be overcome either through design changes or with support from suppliers and systems houses.

iii. EPA's 2000 SNAP proposal, which addresses the use of HCFCs in foam manufacturing, stated that it can take up to four years to complete blowing agent transitions (U.S. EPA, 2000). The transition requires six steps: (1) Obtaining new permits or modifying existing permits, (2) changing equipment to optimize production and ensure worker safety, (3) establishing raw material suppliers, (4) developing formulations, (5) testing final products, and (6) obtaining final product review and approval by relevant boards and agencies. Companies that chose to plan ahead for the eventual phase-out of HCFC-22 and HCFC-142b could have initiated this process in the period from 2002 to 2003, when the current suite of alternatives became available, if not before, and could have completed the first four steps by the current date. Thus, these companies could anticipate completing their conversion by 2006 or 2007.

iv. Those companies that have not taken the initial steps to transition to non-ODS blowing agents should be able to have market-ready products by January 2008. This is based on two findings. First, most if not all, systems houses have already developed non-ODS formulations; and second, several manufacturers of finished pour foam products (including walk-in storage coolers, reach-in storage coolers, metal panels, insulated beverage dispensers, picnic coolers, and entry and garage doors) were able to convert to non-ODS formulations within 18 months.

v. Several end users that converted from HCFC-141b to HCFC-22 made the decision to convert to HCFC-22 under the assumption that HCFC-22 would be an acceptable alternative until January 1, 2010 (Russell, 2006f).

vi. Those companies that have already converted to HFC alternatives are bearing higher system costs than those that have not. While some of these companies were forced to convert to HFCs because they used HCFC-141b for an extended period of time and were therefore unable to allot the time necessary to transition to HCFC-22, others chose to convert to HFC alternatives to be environmentally proactive and avoid a second conversion in the future.

vii. Any grandfathering period for current HCFC-22 users that would extend beyond January 1, 2008 would put those who have already converted to HFCs in a higher cost position for an extended period of time. Companies that converted and adopted ozone friendly substitutes to HCFC-141b based on EPA's July 11, 2000 proposed rulemaking, are competitively disadvantaged.

viii. Shortening the grandfather period is consistent with the spirit of the narrowed use limits. However, product sectors should be allowed sufficient time to complete the conversions.

b. Recommendations

i. EPA needs to allow sufficient time for companies to test final products, and obtain final review and approval from customers, code bodies, agencies, and relevant boards in order to complete conversions to non-ODS-alternatives across product sectors. It is probable that end users will be able to complete the final steps for a successful conversion in 9-14 months.

ii. If EPA chooses to remove the narrowed use limits for sandwich panels, slabstock, and other pour foam applications, a grandfathering deadline of January 1, 2008 is recommended for existing users. By this date, all companies would have had sufficient time to convert to available non-ODS alternatives. This timeline would give companies that converted from HCFC-141b to HCFC-22 several more years of operations and cost savings to offset their initial costs of converting from HCFC-141b to HCFC-22.

2. Extruded Polystyrene Foam

c. Conclusions

i. XPS boardstock made from non-ODS blowing agent technology has been produced in Europe since 2001. These products have been commercially accepted by the existing customer base, and the industry did not experience a loss of competitive position with respect to non-XPS foam insulation products (BASF, 2004; Dow Chemical Company, 2005).

ii. The characterization of R-value specifications differs between Europe and the United States. This is a major driving force for U.S. manufacturers optimizing blowing agents because specific R-values have a more direct effect on the competitiveness of the product in this country.

iii. European and United States markets demand different physical dimensions. As described above, narrower, thicker, and higher density products are easier to produce with alternative formulations such as those commercialized in Europe.

iv. The chemical and physical property comparisons between non-ODS alternatives and HCFC-142b and HCFC-22 indicate that commercially viable alternatives will be adopted shortly by U.S. manufacturers. In fact, companies considering additional capacity are likely to have developed a viable solution before committing funds for capital expansion.

v. U.S. manufacturers are probably considering the following options, based on the physical properties of these blowing agents both individually and when incorporated into blends (UNEP, 2005):

1. HFC-134a

2. Hydrocarbons

3. Ethanol

4. HFC-152a

5. CO2

6. Other alternatives currently under development.

vi. It takes approximately 30-36 months to order and install new equipment, and manufacture products that meet specifications. Formulations need to be identified by 2007 to meet the January 1, 2010, deadline; thus these lines will be ready for manufacturing integration in late 2008 or early 2009. It would benefit companies developing new capacity before January 1, 2010, to install flexible technologies that could use HCFC-142b, if necessary, and easily switch to alternatives by the deadline.

The Agency is seeking comments on the accuracy and thoroughness of the information in the two reports summarized above.

IV. Where can I get the data being made available for comment?

All of the data in which we are seeking comment can be obtained through the Air Docket (see General Information section above for docket contact information). Reference numbers are as follows:

—Memo on Review of SNAP Approved Non-Ozone Depleting Blowing Agents Available to the Extruded Polystyrene Foam Industry—Air Docket, OAR-2004-0507 reference number XX

—Memo on Technical Viability of SNAP Approved Non-Ozone Depleting Blowing Agents Available for Pour Foam Applications—Air Docket, OAR-2004-0507 reference number XX

V. Why is EPA making this data available?

We are soliciting comment on this new information to ensure that we use the best information available when we determine how to proceed on the grandfathering period proposed in our November 4, 2005 proposal to list HCFC-22 and HCFC-142b as unacceptable. Because the information on which we are seeking comment will be considered by EPA in determining how to proceed on our proposal regarding the use of HCFC-22 and HCFC-142b in foam blowing applications, the Agency is providing the public with an opportunity to comment on the quality of the available information. This information will be used to ensure that issues relating to the technical viability of alternatives and industry impacts are fully considered by EPA prior to moving forward with a rulemaking in the foams sector.

VI. What is EPA not taking comment on?

EPA is only accepting comments on accuracy and completeness of the information outlined in today's Federal Register Notice.

VII. What supporting documentation do I need to include in my comments?

Please provide any published studies or raw data supporting your position.

Dated: May 12, 2006.
Brian McLean,
Director, Office of Atmospheric Programs, Office of Air and Radiation.

[FR Doc. E6-8177 Filed 5-25-06; 8:45 am]

BILLING CODE 6560-50-P